OFFICE OF PERSONNEL MANAGEMENT

Privacy Act of 1974: New System of Records

Correction

This is a correction to Federal Register correction Z7-20797 that appeared in the issue of Thursday, October 25, 2007 at page 60718. The correction at 72 FR 60718 erroneously removed notice document E7-20797 appearing at pages 60041-60043 in the issue of Tuesday, October 23, 2007. Notice document E7-20797 correctly appeared in the issue of Tuesday, October 23, 2007 at pages 60041-60043.

[FR Doc. Z7-20797 Filed 11-9-07; 8:45 am]

BILLING CODE 1505-01-D

DEPARTMENT OF STATE

[Public Notice: 5985]

60-Day Notice of Proposed Information Collection: DS-10, Birth Affidavit, OMB Control Number 1405-0132

Correction

In notice document E7-21855 beginning on page 62892 in the issue of Wednesday, November 7, 2007, make the following correction:

On page 62892, in the third column, in the DATES section, “January 7, 2008” should read “November 7, 2007”.

[FR Doc. Z7-21855 Filed 11-9-07; 8:45 am]

BILLING CODE 1505-01-D